DEPARTMENT OF DEFENSE

GENERAL SERVICES ADMINISTRATION

NATIONAL AERONAUTICS AND SPACE ADMINISTRATION

48 CFR Part 15

[FAC 2005-30; Item IX; Docket FAR-2009-0011; Sequence 1]

Federal Acquisition Regulation; Technical Amendment

AGENCIES: Department of Defense (DoD), General Services Administration (GSA), and National Aeronautics and Space Administration (NASA).

ACTION: Final rule.

SUMMARY: This document makes an amendment to the Federal Acquisition Regulation in order to make an editorial change.

DATES: Effective Date: January 15, 2009.

FOR FURTHER INFORMATION CONTACT The FAR Secretariat, Room 4041, GS Building, Washington, DC, 20405, (202) 501-4755, for information pertaining to status or publication schedules. Please cite FAC 2005-30, Technical Amendment.

List of Subjects in 48 CFR Part 15

Government procurement.

Dated: December 24, 2008.
Edward Loeb,
Acting Director, Office of Acquisition Policy.

Therefore, DoD, GSA, and NASA amend 48 CFR part 15 as set forth below:

PART 15—CONTRACTING BY NEGOTIATION

1. The authority citation for 48 CFR part 15 continues to read as follows:

Authority: 40 U.S.C. 121(c); 10 U.S.C. chapter 137; and 42 U.S.C. 2473(c).

15.101-2 [Amended]

2. Amend section 15.101-2 by removing from paragraph (b)(1) “15.304(c)(3)(iv)” and adding “15.304(c)(3)(iii)” in its place.

[FR Doc. E9-546 Filed 1-14-09; 8:45 am]

BILLING CODE 6820-EP-S